DEPARTMENT OF THE INTERIOR

Geological Survey

[GX21DK20H2S0000; OMB Control Number 1028-0114]

Agency Information Collection Activities; Submission to the Office of Management and Budget for Review and Approval; National Ground-Water Monitoring Network Cooperative Funding Application

AGENCY: U.S. Geological Survey, Interior.

ACTION: Notice of Information Collection; request for comment.

SUMMARY: In accordance with the Paperwork Reduction Act of 1995, we, the U.S. Geological Survey (USGS) are proposing to renew an information collection.

DATES: Interested persons are invited to submit comments on or before October 15, 2021.

ADDRESSES: Written comments and recommendations for the proposed information collection should be sent within 30 days of publication of this notice to www.reginfo.gov/public/do/PRAMain. Find this particular information collection by selecting “Currently under 30-day Review—Open for Public Comments” or by using the search function. U.S. Geological Survey, Information Collections Officer, 12201 Sunrise Valley Drive MS 159, Reston, VA 20192; and by email to gs-info_collections@usgs.gov. Please reference OMB Control Number 1028-0114 in the subject line of your comments. Individuals who are hearing or speech impaired may call the Federal Relay Service at 1-800-877-8339 for TTY assistance.

FOR FURTHER INFORMATION CONTACT: To request additional information about this ICR, contact Daryll Pope by email at dpope@usgs.gov, or by telephone at (804) 261-2630. You may also view the ICR at http://www.reginfo.gov/public/do/PRAMain.

SUPPLEMENTARY INFORMATION: In accordance with the PRA and 5 CFR 1320.8(d)(1), we provide the general public and other Federal agencies with an opportunity to comment on new, proposed, revised, and continuing collections of information. This helps us assess the impact of our information collection requirements and minimize the public's reporting burden. It also helps the public understand our information collection requirements and provide the requested data in the desired format.

A Federal Register notice with a 60-day public comment period soliciting comments on this collection of information was published on April 20, 2021. (Federal Register/Vol. 86, No. 74, 20515). No comments were received.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment including your personal identifying information may be made publicly available at any time. While you can ask us in your comment to withhold your personal identifying information from public review, we cannot guarantee that we will be able to do so.

Abstract: The USGS administers the National Ground-Water Monitoring Network which was developed through work with the Federal Advisory Committee on Water Information (ACWI) and its Subcommittee on Ground Water (SOGW). This network is required as part of Public Law 111-11, Subtitle F-Secure Water: Section 9507, 42 U.S.C. 10367, “Water Data Enhancement by United States Geological Survey.” The NGWMN consists of an aggregation of wells and spring from existing Federal, State, Tribal, and local groundwater monitoring networks. To support data providers for the NGWMN, the USGS will be providing funding through cooperative agreements to water-resource agencies that collect groundwater data. The USGS will be soliciting applications for funding that will request information from the Agency collecting the data. Elements will include contact information (phone number and email address), and a proposal describing their proposed work in support of the NGWMN. The proposal will describe the groundwater networks to be included in the NGWMN, the purpose of the networks, and the Principal aquifers that are monitored. Proposals may include work to become a new data provider to the NGWMN, support for maintaining connections to agency databases, and work to enhance NGWMN sites (updating metadata, well maintenance, well drilling, and support for continuous water-level monitoring equipment). The proposal would require estimates of costs to complete the above tasks and a timeline for planned completion. The proposal will be reviewed by the USGS and the NGWMN Program Board who will make funding recommendations.

Title of Collection: National Ground-Water Monitoring Network Cooperative Funding Application.

OMB Control Number: 1028-0114.

Form Number: None.

Type of Review: Extension of a currently approved collection.

Respondents/Affected Public: Multi-state, state or local water-resources agencies who operate groundwater monitoring networks.

Total Estimated Number of Annual Responses: 60.

Estimated Completion Time per Response: 2 hours to read 40 hours to complete application.

Total Estimated Number of Annual Burden Hours: 880.

Respondent's Obligation: Mandatory to be considered for funding.

Frequency of Collection: Annually.

Total Estimated Annual Nonhour Burden Cost: None.

An agency may not conduct, or sponsor and a person is not required to respond to a collection of information unless it displays a currently valid OMB control number.

The authority for this action is the Paperwork Reduction Act of 1995 (44 U.S.C. 3501 et seq.).

Janice Fulford,
Director, USGS WMA Observing Systems Division.

[FR Doc. 2021-19821 Filed 9-14-21; 8:45 am]

BILLING CODE 4338-11-P